PRESIDENT'S COMMITTEE ON THE ARTS AND THE HUMANITIES

Institute of Museum and Library Services

77th Meeting of the President's Committee on the Arts and the Humanities

AGENCY: Institute of Museum and Library Services (IMLS).

ACTION: Notice of meeting.

SUMMARY: Pursuant to the Federal Advisory Committee Act, notice is hereby given that the President's Committee on the Arts and the Humanities. On August 15, 2024, the Committee will meet to carry out administrative functions and report on past recommendations for agency action. On August 16, 2024, the Committee will meet to deliberate on and discuss recommendations for agency action.

DATES: The meeting will be held on August 15, 2024, 1:00 p.m. ET until 4:30 p.m. ET and on August 16, 2024, 11 a.m. ET until adjourned.

ADDRESSES: On August 15, 2024, the meeting will convene at The St. Regis Hotel, 923 Black Lives Matter Plz. NW, Washington, DC 20006. On August 16, 2024, the meeting will convene at a venue in the Washington, DC metro area, and public participation will be virtual.

FOR FURTHER INFORMATION CONTACT: Jasmine Jennings, Assistant General Counsel and Alternate Designated Federal Officer, Institute of Museum and Library Services, Suite 4000, 955 L'Enfant Plaza North SW, Washington, DC 20024; (202) 653-4653; jjennings@imls.gov.

SUPPLEMENTARY INFORMATION: The President's Committee on the Arts and the Humanities is meeting pursuant to Executive Order 14084 and the Federal Advisory Committee Act (FACA), as amended, 5 U.S.C. App. The meeting of the President's Committee on the Arts and Humanities will convene at 1 p.m. ET on August 15, 2024, and 11 a.m. ET on August 16, 2024. This meeting will be open to the public.

On August 15, 2024, the Committee will meet to carry out administrative functions and to report on past recommendations for agency action. Any interested persons may attend in person as observers, subject to limited seating availability. On August 16, 2024, the Committee will meet to deliberate on and discuss recommendations for agency action. Any interested persons may watch the proceedings virtually as observers.

Individuals wishing to attend in person on August 15 or watch virtually on August 16 are advised to contact Alexandra Piper of the Institute of Museum and Library Services five (5) working days in advance of the meeting at apiper@imls.gov or write to the Committee at the Institute of Museum and Library Services, 955 L'Enfant Plaza SW, Suite 4000, Washington, DC 20024.

If you need special accommodations due to disability or would like to obtain further information in reference to the meeting, please contact Alexandra Piper at apiper@imls.gov.

Dated: July 31, 2024.
Brianna Ingram,
Paralegal Specialist.

[FR Doc. 2024-17300 Filed 8-5-24; 8:45 am]

BILLING CODE 7036-01-P